OFFICE OF THE UNITED STATES TRADE REPRESENTATIVE

Notice of the First United States-Mexico-Canada Agreement Environment Committee Meeting

AGENCY: Office of the United States Trade Representative.

ACTION: Notice of meeting and request for comments.

SUMMARY: The Parties to the United States-Mexico-Canada Agreement (USMCA) intend to hold the first meeting of the Environment Committee (Committee) virtually, on June 17, 2021. Following the government-to-government meeting, the Committee will hold a virtual public session. The Office of the United States Trade Representative (USTR) will accept comments on suggestions for topics to be discussed during the Committee meeting, and questions for the public session.

DATES:

June 17, 2021, from 3:00 p.m. to 5:00 p.m. EST: The Parties' will host a virtual public session of the Committee.

June 4, 2021, at 11:59 p.m. EST: Deadline for submission of written comments on suggestions for meeting topics and questions for the public session.

ADDRESSES: Submit written comment to Sarah Lopp, Director for Environment and Natural Resources, by email at sarah.b.lopp@ustr.eop.gov with the subject line “USMCA Environment Committee Meeting”.

FOR FURTHER INFORMATION CONTACT: Sarah Lopp, Director for Environment and Natural Resources, at sarah.b.lopp@ustr.eop.gov, or 202-881-9034.

SUPPLEMENTARY INFORMATION:

I. Background

Article 24.26 of the USMCA establishes an Environment Committee composed of senior government representatives. The Committee oversees implementation of the Environment Chapter and provides a forum to discuss and review implementation issues. USMCA requires the Committee to meet within one year of the date of entry into force and every two years thereafter unless the Parties otherwise agree. All Committee decisions and reports will be made publicly available, unless the Parties decide otherwise. The Committee will provide for public input on matters relevant to its work, as appropriate, and hold a public session at each meeting.

II. Committee Meeting

On June 17, 2021, the Committee will meet virtually in a government-to-government session. During the meeting the Parties will: (1) Review implementation of Chapter 24 (Environment), and discuss how the Parties are meeting their Chapter 24 obligations, and (2) receive a presentation from the Commission on Environmental Cooperation (CEC) Secretariat on cooperation and public Submissions for Enforcement Matters (SEMs). This session will not be open to the public.

III. Public Session on USMCA Chapter 24 Implementation

Following the government-to-government session, the Committee invites all interested persons to attend a virtual public session on USMCA Chapter 24 implementation. At the public session, the Committee will welcome questions, input, and information concerning implementation of the Chapter 24 obligations. The Committee will address questions raised in comments submitted to USTR, and through a live chat function overseen by a moderator. Prior to the meeting, USTR will make details on how to access the public session available on the USTR website at https://ustr.gov/issue-areas/environment.

IV. Comments

USTR invites all interested persons to submit specific questions and comments on topics and issues for the U.S. government to consider as it prepares for the Committee meeting. As noted, during the public session the public will be able to ask questions through a chat function overseen by a moderator. The Committee will address both questions raised in written comments in advance and through the live chat. When preparing comments, we encourage submitters to refer to Chapter 24 of the USMCA, which you can access at: https://ustr.gov/sites/default/files/files/agreements/usmca/24Environment.pdf.

Kelly Milton,
Assistant U.S. Trade Representative for Environment and Natural Resources, Office of the United States Trade Representative.

[FR Doc. 2021-10434 Filed 5-17-21; 8:45 am]

BILLING CODE 3290-F1-P